DEPARTMENT OF EDUCATION

[Docket No.: ED-2020-SCC-0038]

Agency Information Collection Activities; Submission to the Office of Management and Budget for Review and Approval; Comment Request; High School and Beyond 2021 (HS&B:21) Base-Year Full-Scale Study Data Collection

AGENCY: National Center for Education Statistics (NCES), Department of Education (ED).

ACTION: Notice.

SUMMARY: In accordance with the Paperwork Reduction Act of 1995, ED is proposing a revision to an existing information collection.

DATES: Interested persons are invited to submit comments on or before October 2, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Carrie Clarady, 202-245-6437.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: High School and Beyond 2021 (HS&B:21) Base-Year Full-Scale Study Data Collection.

OMB Control Number: 1850-0944.

Type of Review: A revision of an existing information collection.

Respondents/Affected Public: State, Local and Tribal Governments.

Total Estimated Number of Annual Responses: 121,952.

Total Estimated Number of Annual Burden Hours: 50,361.

Abstract: The High School and Beyond 2021 study (HS&B:21) will be the sixth in a series of longitudinal studies at the high school level conducted by the National Center for Education Statistics (NCES), within the Institute of Education Sciences (IES) of the U.S. Department of Education. HS&B:21 will follow a nationally representative sample of ninth grade students from the start of high school in the fall of 2021 to the spring of 2024 when most will be in twelfth grade. A field test will be conducted one year prior to the full-scale study. The study sample will be freshened in 2024 to create a nationally representative sample of twelfth-grade students. A high school transcript collection and additional follow-up data collections beyond high school are also planned.

In preparation for the HS&B:21 Base-Year Full-Scale study (BYFS), scheduled to take place in the fall of 2021, the Office of Management and Budget (OMB) approved (OMB #1850-0944 v.1-5) a request to conduct the HS&B:21 Base-Year Field Test (BYFT) and the BYFS sampling and state, school district, school, and parent recruitment activities, both of which began in the fall of 2019. These activities include collecting student rosters and selecting the BYFS sample. BYFT activities ended in December 2019.

The study initially planned to conduct its BYFS data collection in the fall of 2020 and published all materials for a 60D review in February 2020. Due to the COVID-19 pandemic, it was decided to postpone this collection for one year and pause the review after the 60D period was completed in April 2020. OMB provided approval to adjust the schedule in June 2020 (OMB #1850-0944 v.6). This submission for 30D review is to request approval for the Fall 2021 BYFS study data collection. A document describing all changes between the documents presented in the 60D review and those presented in the 30D review is attached to this package.

Part A of this submission presents information on the basic design of HS&B:21. Part B discusses the statistical methods employed. Part C presents justification for the questionnaire content. Appendix A provides the communication materials to be used during state, school district, school, and parent BYFS recruitment and data collection activities. Appendix B provides the full-scale data collection instruments. The primary contractor to NCES for this study is RTI International (Contract #919900-18-R0018).

Dated: August 28, 2020.
Stephanie Valentine,
PRA Coordinator, Strategic Collections and Clearance Governance and Strategy Division, Office of Chief Data Officer, Office of Planning, Evaluation and Policy Development.

[FR Doc. 2020-19420 Filed 9-1-20; 8:45 am]

BILLING CODE 4000-01-P